DEPARTMENT OF HOUSING AND URBAN DEVELOPMENT

[Docket No. FR-7092-N-11]

Privacy Act of 1974; System of Records

AGENCY: Office of Single-Family Asset Management, HUD.

ACTION: Notice of a rescindment of a systems of records.

SUMMARY: Pursuant to the provisions of the Privacy Act of 1974, as amended, the Department of the Housing and Urban Development (HUD), the Office of Single-Family Asset Management, is issuing a public notice of its intent to rescind the Validation and Disposition Service (VDS-Best Ex) because the project was terminated and never went into Production.

DATES: Comments will be accepted on or before February 22, 2024. This proposed action will be effective immediately upon publication.

ADDRESSES: You may submit comments, identified by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to https://www.regulations.gov including any personal information provided.

Docket: For access to the docket to read background documents or comments received go to https://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Validation and Disposition Service (VDS-Best Ex) is being terminated because the project never went into production. The VDS-Best Ex was developed to allow HUD to mitigate financial risk to the Federal Housing Administration (FHA) Mutual Mortgage Insurance Fund (MMIF) by providing property valuation and disposition strategies. The records are no longer maintained by HUD and have run the record retention period. All test and other data containing PII used in development has been deleted.

SYSTEM NAME AND NUMBER:

Validation and Disposition Service (VDS-Best Ex).

HISTORY:

Agency Docket Number: FR-6146-N-02, 84 FR 14386 (April 10, 2019)

Ladonne White,
Chief Privacy Officer, Office of Administration.

[FR Doc. 2024-01222 Filed 1-22-24; 8:45 am]

BILLING CODE 4210-67-P